DEPARTMENT OF COMMERCE

International Trade Administration

[A-570-890]

Wooden Bedroom Furniture From the People's Republic of China: Final Results of Antidumping Duty Administrative Review; 2022

AGENCY: Enforcement and Compliance, International Trade Administration, Department of Commerce.

SUMMARY: The U.S. Department of Commerce (Commerce) continues to determine that the sole respondent under review, VidaXL Ningbo Industry Co., Ltd. (VidaXL), is not eligible for a separate rate and is, therefore, part of the China-wide entity. The period of review (POR) is January 1, 2022, through December 31, 2022.

DATES: Applicable February 6, 2024.

FOR FURTHER INFORMATION CONTACT: Krisha Hill, AD/CVD Operations, Office IV, Enforcement and Compliance, International Trade Administration, U.S. Department of Commerce, 1401 Constitution Avenue NW, Washington, DC 20230; telephone: (202) 482-4037.

SUPPLEMENTARY INFORMATION:

Background

On October 6, 2023, Commerce published in the Federal Register the preliminary results of the 2022 administrative review of the antidumping duty order on wooden bedroom furniture from the People's Republic of China (China).¹ We invited interested parties to comment on the Preliminary Results. No parties commented on the Preliminary Results. Accordingly, the Preliminary Results remain unchanged in the final results of this review. Commerce conducted this review in accordance with section 751 of the Tariff Act of 1930, as amended (the Act).

¹ See Wooden Bedroom Furniture from the People's Republic of China: Preliminary Results of Antidumping Duty Administrative Review; and Rescission, in Part; 2022, 88 FR 69618 (October 6, 2023) (Preliminary Results).

Scope of the Order ²

² For a complete description of the scope of the order, see Wooden Bedroom Furniture from the People's Republic of China: Final Results of Antidumping Duty Administrative Review; and Final Determination of No Shipments; 2021, 88 FR 8405 (February 9, 2023).

The product covered by the order is wooden bedroom furniture from China. Imports of subject merchandise are classified under the Harmonized Tariff Schedule of the United States (HTSUS) subheadings: 9403.50.9041, 9403.50.9042, 9403.50.9045, 9403.50.9080, 9403.91.0005, 9403.91.0010, 9403.91.0080, 7009.92.1090 or 7009.92.5095. Although the HTSUS subheadings are provided for convenience and customs purposes, the written description of the scope of the order is dispositive.

Final Results of Review

Consistent with the Preliminary Results, we continue to determine that the sole respondent under review, VidaXL, did not establish its eligibility for a separate rate and is part of the China-wide entity. Because no party requested a review of the China-wide entity, and Commerce no longer considers the China-wide entity as an exporter conditionally subject to administrative reviews, we did not conduct a review of the China-wide entity.³ Accordingly, the rate previously established for the China-wide entity, 216.01 percent, is not changed as a result of this review.⁴

³ See Antidumping Proceedings: Announcement of Change in Department Practice for Respondent Selection in Antidumping Duty Proceedings and Conditional Review of the Nonmarket Economy Entity in NME Antidumping Duty Proceedings, 78 FR 65963 (November 4, 2013).

⁴ See Amended Final Results of Antidumping Duty Administrative Review and New Shipper Reviews: Wooden Bedroom Furniture from the People's Republic of China, 72 FR 46957, 46964 (August 22, 2007).

Disclosure

Because Commerce received no comments on the Preliminary Results, we have not modified our analysis and no decision memorandum accompanies this Federal Register notice. We are adopting the Preliminary Results as the final results of this review. Consequently, there are no new calculations to disclose in accordance with 19 CFR 351.224(b) for these final results.

Assessment Rates

Pursuant to section 751(a)(2)(C) of the Act and 19 CFR 351.212(b), Commerce has determined, and U.S. Customs and Border Protection (CBP) shall assess, antidumping duties on all appropriate entries of subject merchandise in accordance with the final results of this review. No earlier than 35 days after the date of publication of this notice in the Federal Register, Commerce intends to instruct CBP to liquidate any entries of subject merchandise from VidaXL that entered the United States during the POR at the China-wide rate (i.e., 216.01 percent). If a timely summons is filed at the U.S. Court of International Trade, the assessment instructions will direct CBP not to liquidate relevant entries until the time for parties to file a request for a statutory injunction has expired (i.e., within 90 days of publication).

Cash Deposit Requirements

The following cash deposit requirements will be effective upon publication of this notice in the Federal Register for all shipments of subject merchandise from China entered, or withdrawn from warehouse, for consumption on or after the publication date of this notice, as provided by section 751(a)(2)(C) of the Act: (1) for any previously investigated or reviewed China or non-China exporter that has a separate rate, the cash deposit rate will continue to be the exporter's existing cash deposit rate; (2) for all China exporters of subject merchandise that do not have a separate rate, including VidaXL, the cash deposit rate will be equal to the dumping margin assigned to the China-wide entity, which is 216.01 percent; ⁵ and (3) for all non-China exporters of subject merchandise that do not have a separate rate, the cash deposit rate will be equal to the dumping margin applicable to the China exporter(s) that supplied that non-China exporter. These cash deposit requirements, when imposed, shall remain in effect until further notice.

⁵ See Preliminary Results, 88 FR at 69619.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Order

This notice also serves as the only reminder to parties subject to an administrative protective order (APO) of their responsibility concerning the return or destruction of proprietary information disclosed under APO in accordance with 19 CFR 351.305(a)(3). Timely written notification of the return or destruction of APO materials or conversion to judicial protective order is hereby requested. Failure to comply with the regulations and terms of an APO is a violation subject to sanction.

Notification to Interested Parties

We are issuing and publishing the final results of this review in accordance with sections 751(a)(1) and 777(i) of the Act, and 19 CFR 351.213(h)(1) and 351.221(b)(5).

Dated: Janaruy 30, 2024.
Abdelali Elouaradia,
Deputy Assistant Secretary for Enforcement and Compliance.

[FR Doc. 2024-02385 Filed 2-5-24; 8:45 am]

BILLING CODE 3510-DS-P